ENVIRONMENTAL PROTECTION AGENCY

40 CFR Parts 9 and 721

[EPA-HQ-OPPT-2011-0577; FRL-9356-1]

RIN 2070-AB27

Significant New Use Rules on a Certain Chemical Substance; Removal of Significant New Use Rules

AGENCY: Environmental Protection Agency (EPA).

ACTION: Final rule.

SUMMARY: EPA is removing significant new use rules (SNURs) promulgated under the Toxic Substances Control Act (TSCA) for five chemical substances which were the subject of premanufacture notices (PMNs). EPA published these SNURs using direct final rulemaking procedures. EPA received notice of intent to submit adverse comments on the rules. Therefore, the Agency is removing these SNURs, as required under the expedited SNUR rulemaking process. EPA intends to publish in the near future proposed SNURs for these five chemical substances under separate notice and comment procedures.

DATES: This final rule is effective on July 25, 2012.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

A list of potentially affected entities is provided in the Federal Register of April 27, 2012 (77 FR 25236) (FRL-9343-4). If you have questions regarding the applicability of this action to a particular entity, consult the technical person listed under FOR FURTHER INFORMATION CONTACT.

II. What Rule is being removed?

In the Federal Register of April 27, 2012 (77 FR 25236), EPA issued several direct final SNURs, including SNURs for five chemical substances that are the subject of this removal. These direct final rules were issued pursuant to the procedures in 40 CFR part 721 subpart D. In accordance with § 721.160(c)(3)(ii), EPA is removing these rules issued for five chemical substance which were the subject of PMNs P-01-384, P-01-385, P-01-386, P-01-387, and P-01-388 because the Agency received notice of intent to submit adverse comments without sufficient time to respond prior to the effective date of the rule. EPA intends to publish proposed SNURs for these chemical substances under separate notice and comment procedures.

For further information regarding EPA's expedited process for issuing SNURs, interested parties are directed to 40 CFR part 721, subpart D, and the Federal Register of July 27, 1989 (54 FR 31314). The record for the direct final SNUR for these chemical substances that are being removed was established at EPA-HQ-OPPT-2011-0577. That record includes information considered by the Agency in developing this rule and the notice of intent to submit adverse comments.

III. How do I access the docket?

To access the electronic docket, please go to http://www.regulations.gov and follow the online instructions to access docket ID number EPA-HQ-OPPT-2011-0577. Additional information about the Docket Facility is provided under ADDRESSES in the Federal Register of April 27, 2012 (77 FR 25236). If you have questions, consult the technical person listed under FOR FURTHER INFORMATION CONTACT.

IV. Statutory and Executive Order Reviews

This final rule removes existing regulatory requirements and does not contain any new or amended requirements. As such, the Agency has determined that this removal will not have any adverse impacts, economic or otherwise. The statutory and executive order review requirements applicable to the direct final rule were discussed in the Federal Register of April 27, 2012 (77 FR 25236). Those review requirements do not apply to this action because it is a removal and does not contain any new or amended requirements.

V. Congressional Review Act

The Congressional Review Act, 5 U.S.C. 801 et seq., generally provides that before a rule may take effect, the agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects

40 CFR Part 9

Environmental protection, Reporting and recordkeeping requirements.

40 CFR Part 721

Environmental protection, Chemicals, Hazardous substances, Reporting and recordkeeping requirements.

Dated: July 16, 2012.
Maria J. Doa,
Director, Chemical Control Division, Office of Pollution Prevention and Toxics.

Therefore, 40 CFR parts 9 and 721 are amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

§ 9.1 [Amended]

2. The table in § 9.1 is amended by removing the following sections under the undesignated center heading “Significant New Uses of Chemical Substances”: §§ 721.10308, 721.10309, 721.10310, 721.10311, and 721.10312.

PART 721—[AMENDED]

3. The authority citation for part 721 continues to read as follows:

Authority: 15 U.S.C. 2604, 2607, and 2625(c).

§§ 721.10308, 721.10309, 721.10310, 721.10311, and 721.10312 [Removed]

4. Remove §§ 721.10308, 721.10309, 721.10310, 721.10311, and 721.10312.

[FR Doc. 2012-17897 Filed 7-24-12; 8:45 am]

BILLING CODE 6560-50-P